DEPARTMENT OF THE INTERIOR

Fish and Wildlife Service

[FWS-R6-R-2009-N181;60138-1265-6CCP-S3]

Lee Metcalf National Wildlife Refuge, Stevensville, MT

AGENCY: Fish and Wildlife Service, Interior.

ACTION: Notice of intent.

SUMMARY: We, the U.S. Fish and Wildlife Service (Service), intend to gather information necessary to prepare a comprehensive conservation plan (CCP) and associated environmental documents for Lee Metcalf National Wildlife Refuge (NWR) in Stevensville, Montana. We furnish this notice in compliance with Service CCP policy to advise other agencies and the public of our intentions and to obtain suggestions and information on the scope of issues to consider in the planning process.

DATES: To ensure consideration, please send your written comments by November 13, 2009.

ADDRESSES: Send your comments or requests for more information by any of the following methods.

E-mail: leemetcalf@fws.gov. Include “Lee Metcalf CCP” in the subject line of the message.

Fax: Laura King, Planning Team Leader, 406-644-2661.

U.S. Mail: Laura King, Planning Team Leader, National Bison Range, Division of Refuge Planning, 58355 Bison Range Road, Moiese, MT 59824.

In-Person Drop-off: You may drop off comments during regular business hours at the above address or at the Lee Metcalf National Wildlife Refuge office located in Stevensville, Montana, at 4567 Wildfowl Lane.

FOR FURTHER INFORMATION CONTACT: Laura King, 406-644-2211, extension 210 (phone); or Michael Spratt, Chief, Division of Planning, P.O. Box 25486, Denver Federal Center, Denver, CO 80225.

SUPPLEMENTARY INFORMATION:

Introduction

With this notice, we initiate our process for developing a CCP for Lee Metcalf NWR for the conservation and enhancement of its natural resources. This notice complies with our CCP policy to (1) Advise other Federal and State agencies, tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for tribal, State, and local governments; agencies; organizations; and the public. At this time we encourage input in the form of issues, concerns, ideas, and suggestions for the future management of Lee Metcalf NWR.

We will conduct the environmental review of this project and develop environmental documents in accordance with the requirements of the National Environmental Policy Act of 1969, as amended (NEPA) (42 U.S.C. 4321 et seq.); NEPA regulations (40 CFR parts 1500-1508); other appropriate Federal laws and regulations; and our policies and procedures for compliance with those laws and regulations.

Lee Metcalf National Wildlife Refuge

This Refuge was established in 1963 and has two purposes:

(1) “For use as an inviolate sanctuary, or for any other management purpose, for migratory birds” (Migratory Bird Conservation Act); and

(2) “for (a) incidental fish and wildlife oriented recreational development, (b) the protection of natural resources, [and] (c) the conservation of endangered species or threatened species” (Refuge Recreation Act).

This Refuge is located in Ravalli County, 2 miles north of Stevensville, Montana. The Refuge is one of the Nation's smaller refuges, encompassing 2,800 acres, but it is one of the few remaining undeveloped areas in the Bitterroot Valley. The Refuge lies along the meandering Bitterroot River and is comprised of wet meadow and forested habitats and has created and modified wetlands. This Refuge provides numerous opportunities for the public, including walking trails and an outdoor classroom for students and visitors. The Refuge provides habitat for raptors, including ospreys and numerous waterfowl species.

Scoping: Preliminary Issues, Concerns, and Opportunities

We have identified preliminary issues, concerns, and opportunities that we may address in the CCP. During public scoping, we may identify additional issues.

We request input as to which issues affecting management or public use should be addressed during the planning process. We are especially interested in receiving public input in the following areas:

(a) What do you value most about this Refuge?

(b) What problems or issues do you see affecting management of this Refuge?

(c) What changes, if any, would you like to see in the management of this Refuge?

We provide the above questions for your optional use. We have no requirement that you provide information; however, any comments the planning team receives will be used as part of the planning process.

Public Meetings

We will give the public an opportunity to provide input at a public meeting to be scheduled for fall 2009. You can obtain the schedule from the planning team leader or the Refuge office (see addresses). Exact dates and times for these public meetings are yet to be determined, but will be announced via local and State media, the Region 6 planning Web site at http://www.fws.gov/mountain-prairie/planning/ccp.htm, and a planning update. If you would like to be notified of this meeting by mail, please provide your mailing address to the planning team leader (ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: September 8, 2009.
Noreen E. Walsh,
Deputy Regional Director.

[FR Doc. E9-23551 Filed 9-29-09; 8:45 am]

BILLING CODE 4310-55-P